DEPARTMENT OF TRANSPORTATION

Maritime Administration

[Docket No. MARAD-2025-0894]

Request for Comments on the Renewal of a Previously Approved Information Collection: Mariner Cadet Training-Agreements, Compliance Reporting, and Audits

AGENCY: Maritime Administration (MARAD), U.S. Department of Transportation (DOT).

ACTION: Notice.

SUMMARY: MARAD invites public comments on its intention to request approval from the Office of Management and Budget (OMB) to renew an information collection in accordance with the Paperwork Reduction Act of 1995. The proposed collection OMB 2133-0553 (Mariner Cadet Training-Agreements, Compliance Reporting, and Audits) is being updated to remove references to collection instrument placeholders that will no longer be implemented. Consequently, there is a decrease in the total public burden for this collection. MARAD is required to publish this notice in the Federal Register to obtain comments from the public and affected agencies.

DATES: Comments must be submitted on or before January 27, 2026.

ADDRESSES: You may submit comments identified by Docket No. MARAD-2025-0894 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Jennifer Pralgo, 202-309-7187, Office of Cadet Training At-Sea Safety (MAR-660), Maritime Administration, 1200 New Jersey Avenue SE, Washington, DC 20590, email: jennifer.pralgo@dot.gov.

SUPPLEMENTARY INFORMATION:

Title: Mariner Cadet Training-Agreements, Compliance Reporting, and Audits.

OMB Control Number: 2133-0553.

Type of Request: Extension of a currently approved collection.

Abstract: In accordance with its delegation of authority at 49 CFR 1.93(a), and pursuant to 46 U.S.C. 50101(a)(4), MARAD is charged with ensuring that the United States Merchant Marine is manned with trained and efficient citizen personnel. Furthermore, 46 U.S.C. 51322 requires MARAD to protect cadet mariners from sexual assault onboard vessels, establish sexual assault policy, and conduct random and targeted unannounced checks of commercial vessels. MARAD must obtain information from commercial vessel operators in order to meet its statutory objectives of setting sexual assault policy and monitoring compliance, which are essential to its mission of ensuring a well-trained U.S. Merchant Marine. MARAD uses information compiled through this collection to confirm acceptance of sexual assault policies by commercial vessel operators. This collection also establishes a process to oversee and monitor continued sexual assault policy compliance through reporting and auditing of commercial vessel operators, during initial enrollment and subsequent Sea Years.

Respondents: Commercial vessel operators employing United States Merchant Marine cadets onboard their vessels.

Affected Public: Individuals and households.

Estimated Number of Respondents: 75.

Estimated Number of Responses: 1.

Estimated Hours per Response: .25 to 6 hours.

Annual Estimated Total Annual Burden Hours: 108.75.

Frequency of Response: Once annually and/or following incident of a sexual assault or harassment.

(Authority: The Paperwork Reduction Act of 1995; 44 U.S.C. Chapter 35, as amended; and 49 CFR 1.49.)

By Order of the Maritime Administration.
T. Mitchell Hudson, Jr.,
Secretary, Maritime Administration.

[FR Doc. 2025-21422 Filed 11-26-25; 8:45 am]

BILLING CODE 4910-81-P